DEPARTMENT OF AGRICULTURE

Natural Resources Conservation Service

[Docket ID: NRCS-2021-0006]

Urban Agriculture and Innovative Production Advisory Committee Virtual Meeting

AGENCY: Natural Resources Conservation Service (NRCS), United States Department of Agriculture (USDA).

ACTION: Notice of meeting.

SUMMARY: The Natural Resources Conservation Service (NRCS), U.S. Department of Agriculture (USDA), is announcing the first meeting of the Urban Agriculture and Innovative Production Advisory Committee (UAIPAC). UAIPAC was established to advise the Secretary on the development of policies and outreach relating to urban, indoor, and other emerging agricultural production practices; and other aspects of the implementation of Section 12302 of the Agriculture Improvement Act of 2018 (2018 Farm Bill). UAIPAC will also develop recommendations and advise on policies, initiatives, and outreach administered by the Office of Urban Agriculture and Innovative Production (OUAIP); evaluate ongoing research and extension activities related to urban, indoor, and other innovative agricultural practices; identify new and existing barriers to successful urban, indoor, and other emerging agricultural production practices; and provide additional assistance and advice to OUAIP as appropriate.

DATES: Virtual Meeting: UAIPAC will meet via webinar on March 23 and 24, 2022 from 11:00 a.m. to 3:30 p.m. Eastern Time (ET).

Registration: To attend the meeting, you can register by Friday, March 18, 2022.

Comments: The deadline to sign up to present oral comments during the webinar, and submit your written comments is Friday, March 18, 2022.

ADDRESSES: Comments: We invite you to submit comments for the UAIPAC meeting. You may submit comments as follows:

• Federal eRulemaking Portal: go to https://www.regulations.gov docket ID NRCS-2021-0006 and follow the instructions for submitting comments.

UAIPAC website: The meeting webinar can be accessed via either the internet or phone; detailed access information will be available on the UAIPAC website prior to the meeting: https://www.farmers.gov/urban.

Registration: The public can register to attend the UAIPAC meeting at: https://www.zoomgov.com/webinar/register/WN_sDAcexgNQQKuIEM3eRfNow. Comments will be available for viewing online at www.regulations.gov. Comments received will be posted without change, including any personal information provided.

FOR FURTHER INFORMATION CONTACT: Leslie Glover; telephone: (602)395-9536; email: UrbanAgricultureFederalAdvisoryCommittee@usda.gov.

SUPPLEMENTARY INFORMATION:

UAIPAC Purpose

Section 12302 of the 2018 Farm Bill (Pub. L. 115-334) directs the Secretary of the USDA to establish an “Urban Agriculture and Innovative Production Advisory Committee” to advise the Secretary on the development of policies and outreach relating to urban, indoor, and other emerging agricultural production practices; and any other aspects of the implementation of section 222 of the Reorganization Act of 1994 (Pub. L. 103-354), as added by the 2018 Farm Bill. UAIPAC will advise the Secretary of Agriculture on the development of policies and outreach relating to urban, indoor, and other emerging agricultural production practices; and will further develop recommendations.

In addition, UAIPAC will advise the Director of the Office of Urban Agriculture and Innovative Production on policies, initiatives, and outreach administered by that office. UAIPAC will evaluate and review ongoing research and extension activities relating to urban, indoor, and other innovative agricultural practices; identify new and existing barriers to successful urban, indoor, and other emerging agricultural production practices; and provide additional assistance and provide advice to the Director as appropriate.

UAIPAC Webinar

The UAIPAC will hold the first meeting on March 23 and 24, 2022 The virtual meeting will be open to the public and will provide an opportunity for stakeholders to participate and present their views.

The agenda will include, but is not limited to, welcome; introductions; administrative matters; and consultation on the National Institute of Food and Agriculture's Notice of Funding Opportunity for the Urban, Indoor and Emerging Agriculture grant, pursuant to Section 7212 of the Agriculture Improvement Act of 2018. Please check the UAIPAC website for the latest agenda details 24 to 48 hours prior to Friday, March 18, 2022, via http://www.farmers.gov/urban.

Submitting Written Comments and Presenting Oral Comments

Comments should address specific topics pertaining to urban agriculture, innovative production, and USDA programs and services. Written public comments will be accepted on or before 11:59 p.m. ET on Friday, March 18, 2022, via https://www.zoomgov.com/webinar/register/WN_sDAcexgNQQKuIEM3eRfNow. UAIPAC will not have adequate time to consider any comments submitted after Friday, March 18, 2022, prior to the meeting.

UAIPAC is providing the public an opportunity to provide oral comments and will accommodate as many individuals and organizations as time permits. Persons or organizations wishing to make oral comments must pre-register by 11:59 p.m. ET, Friday, March 18, 2022, and may register for only one speaking slot. Instructions for registering and participating in the meeting can be obtained by contacting the person listed in the FOR FURTHER INFORMATION CONTACT section by or before the deadline.

Meeting Accommodations

If you are a person requiring reasonable accommodation, please make requests in advance for sign language interpretation, assistive listening devices, or other reasonable accommodation, to the person listed under the FOR FURTHER INFORMATION CONTACT section. Determinations for reasonable accommodation will be made on a case-by-case basis.

Dated: March 3, 2022.
Cikena Reid,
Committee Management Officer, USDA.

[FR Doc. 2022-04859 Filed 3-7-22; 8:45 am]

BILLING CODE 3410-16-P